NATIONAL FOUNDATION ON THE ARTS AND THE HUMANITIES

National Endowment for the Humanities

Meeting of Humanities Panel

AGENCY: National Endowment for the Humanities, National Foundation on the Arts and the Humanities.

ACTION: Notice of meeting.

SUMMARY: The National Endowment for the Humanities (NEH) will hold four additional meetings, by video conference, of the Humanities Panel, a federal advisory committee, in February 2024, and thirty-nine meetings during March 2024. The purpose of the meetings is for panel review, discussion, evaluation, and recommendation of applications for financial assistance under the National Foundation on the Arts and the Humanities Act of 1965.

DATES: See SUPPLEMENTARY INFORMATION for meeting dates. The meetings will open at 8:30 a.m. and will adjourn by 5 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: February 26, 2024

This video meeting will discuss applications on the topic of History, for the Public Scholars grant program, submitted to the Division of Research Programs.

2. Date: February 27, 2024

This video meeting will discuss applications on the topics of Literature and Language, for the Public Scholars grant program, submitted to the Division of Research Programs.

3. Date: February 28, 2024

This video meeting will discuss applications on the topic of Biography, for the Public Scholars grant program, submitted to the Division of Research Programs.

4. Date: February 29, 2024

This video meeting will discuss applications on the topic of Arts, for the Public Scholars grant program, submitted to the Division of Research Programs.

5. Date: March 1, 2024

This video meeting will discuss applications on the topics of Film, Media, and Communications, for the Public Scholars grant program, submitted to the Division of Research Programs.

6. Date: March 1, 2024

This video meeting will discuss applications on the topic of History, for the Public Scholars grant program, submitted to the Division of Research Programs.

7. Date: March 4, 2024

This video meeting will discuss applications on the topic of Social Sciences, for the Public Scholars grant program, submitted to the Division of Research Programs.

8. Date: March 4, 2024

This video meeting will discuss applications on the topic of U.S. History, for the Public Scholars grant program, submitted to the Division of Research Programs.

9. Date: March 5, 2024

This video meeting will discuss applications on the topic of American Studies, for the Public Scholars grant program, submitted to the Division of Research Programs.

10. Date: March 5, 2024

This video meeting will discuss applications on the topics of Science, Technology, Medicine, and the Environment, for the Public Scholars grant program, submitted to the Division of Research Programs.

11. Date: March 6, 2024

This video meeting will discuss applications on the topic of Biography, for the Public Scholars grant program, submitted to the Division of Research Programs.

12. Date: March 6, 2024

This video meeting will discuss applications on the topics of History and Studies of the Americas, for the Collaborative Research grant program, submitted to the Division of Research Programs.

13. Date: March 7, 2024

This video meeting will discuss applications on the topics of Social Sciences and Philosophy, for the Collaborative Research grant program, submitted to the Division of Research Programs.

14. Date: March 8, 2024

This video meeting will discuss applications on the topic of U.S. History, for the Public Scholars grant program, submitted to the Division of Research Programs.

15. Date: March 11, 2024

This video meeting will discuss applications on the topic of American Studies, for the Public Scholars grant program, submitted to the Division of Research Programs.

16. Date: March 11, 2024

This video meeting will discuss applications on the topics of History, Literature, and the Arts, for the Collaborative Research grant program, submitted to the Division of Research Programs.

17. Date: March 11, 2024

This video meeting will discuss applications on the topics of Philosophy and Religion, for the Collaborative Research grant program, submitted to the Division of Research Programs.

18. Date: March 12, 2024

This video meeting will discuss applications on the topics of European History and Literature, for the Scholarly Editions and Translations grant program, submitted to the Division of Research Programs.

19. Date: March 12, 2024

This video meeting will discuss applications on the topic of U.S. History, for the Public Scholars grant program, submitted to the Division of Research Programs.

20. Date: March 12, 2024

This video meeting will discuss applications on the topics of Philosophy, Politics, and Law, for the Public Scholars grant program, submitted to the Division of Research Programs.

21. Date: March 18, 2024

This video meeting will discuss applications on the topics of Literature and the Arts, for the Collaborative Research grant program, submitted to the Division of Research Programs.

22. Date: March 19, 2024

This video meeting will discuss applications on the topic of Art History, for the Public Humanities Projects: Exhibitions (Implementation) grant program, submitted to the Division of Public Programs.

23. Date: March 19, 2024

This video meeting will discuss applications on the topics of Libraries and Archives, for the Sustaining Cultural Heritage Collections grant program, submitted to the Division of Preservation and Access.

24. Date: March 20, 2024

This video meeting will discuss applications on the topic of History, for the Sustaining Cultural Heritage Collections grant program, submitted to the Division of Preservation and Access.

25. Date: March 20, 2024

This meeting will discuss applications on the topic of Social Sciences, for the Collaborative Research grant program, submitted to the Division of Research Programs.

26. Date: March 20, 2024

This video meeting will discuss applications on the topics of Arts and Culture, for the Media Projects Production grant program, submitted to the Division of Public Programs.

27. Date: March 20, 2024

This video meeting will discuss applications on the topics of Romance Languages and the Americas, for the Scholarly Editions and Translations grant program, submitted to the Division of Research Programs.

28. Date: March 21, 2024

This video meeting will discuss applications on the topic of United States History, for the Scholarly Editions and Translations grant program, submitted to the Division of Research Programs.

29. Date: March 21, 2024

This video meeting will discuss applications on the topic of History, for the Sustaining Cultural Heritage Collections grant program, submitted to the Division of Preservation and Access.

30. Date: March 21, 2024

This video meeting will discuss applications for the Public Humanities Projects: Humanities Discussions Grants program, submitted to Division of Public Programs.

31. Date: March 22, 2024

This video meeting will discuss applications on the topics of U.S. History, for the Public Humanities Projects: Exhibitions (Implementation) grant program, submitted to the Division of Public Programs.

32. Date: March 22, 2024

This video meeting will discuss applications on the topics of Communication, Technology, and Media Studies, for the Collaborative Research grant program, submitted to the Division of Research Programs.

33. Date: March 22, 2024

This video meeting will discuss applications on the topics of History and Studies of Africa, Asia, and Europe, for the Collaborative Research grant program, submitted to the Division of Research Programs.

34. Date: March 22, 2024

This video meeting will discuss applications on the topics of Anthropology, Archaeology, and Studies of Science, for the Collaborative Research grant program, submitted to the Division of Research Programs.

35. Date: March 22, 2024

This video meeting will discuss applications on the topics of British and American Literature, for the Scholarly Editions and Translations grant program, submitted to the Division of Research Programs.

36. Date: March 26, 2024

This video meeting will discuss applications on the topics of Middle East, Africa, and Asia, for the Scholarly Editions and Translations grant program, submitted to the Division of Research Programs.

37. Date: March 26, 2024

This video meeting will discuss applications on the topics of Archeology, Anthropology, and Native American, for the Sustaining Cultural Heritage Collections grant program, submitted to the Division of Preservation and Access.

38. Date: March 26, 2024

This video meeting will discuss applications on the topic of Scholarly Communication, for the Digital Humanities Advancement Grants program, submitted to the Office of Digital Humanities.

39. Date: March 27, 2024

This video meeting will discuss applications on the topics of Arts, Culture, and Public Humanities, for the Digital Humanities Advancement Grants program, submitted to the Office of Digital Humanities.

40. Date: March 27, 2024

This video meeting will discuss applications on the topics of Libraries and Archives, for the Sustaining Cultural Heritage Collections grant program, submitted to the Division of Preservation and Access.

41. Date: March 28, 2024

This video meeting will discuss applications on the topic of Material Culture, for the Sustaining Cultural Heritage Collections grant program, submitted to the Division of Preservation and Access.

42. Date: March 28, 2024

This video meeting will discuss applications on the topics of Philosophy and the Classics, for the Scholarly Editions and Translations grant program, submitted to the Division of Research Programs.

43. Date: March 28, 2024

This video meeting will discuss applications on the topics of Teaching and Learning, for the Digital Humanities Advancement Grants program, submitted to the Office of Digital Humanities.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: February 6, 2024.
Jessica Graves,
Paralegal Specialist, National Endowment for the Humanities.

[FR Doc. 2024-02761 Filed 2-9-24; 8:45 am]

BILLING CODE 7536-01-P